FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 011325-040.

Title: Westbound Transpacific Stabilization Agreement.

Parties: American President Lines, Ltd./APL Co. Pte Ltd.(withdrawal from agreement effective September 1, 2012); COSCO Container Lines Company Limited; Evergreen Line Joint Service Agreement.; Hanjin Shipping Co., Ltd.; Hapag-Lloyd AG; Hyundai Merchant Marine Co. Ltd.; Kawasaki Kisen Kaisha, Ltd.; Nippon Yusen Kaisha Line; Orient Overseas Container Line Limited; and Yangming Marine Transport Corp.

Filing Party: David F. Smith, Esq., Cozen O'Connor, 627 I Street NW., Suite 1100, Washington, DC 20006.

Synopsis: This amendment deletes American President Lines, Ltd. and APL Co. PTE Ltd. (operating as a single carrier) from the Agreement effective September 1, 2012.

Agreement No.: 012181.

Title: HLAG/HSDG Latin America Slot Exchange Agreement.

Parties: Hapag-Lloyd AG and Hamburg Sud KG.

Filing Party: Wayne R. Rohde, Esquire, Cozen O'Connor, 1627 I Street NW., Suite 1100, Washington, DC 20006-4007.

Synopsis: The agreement would authorize the parties to exchange space on their respective services in the trades between the U.S. Gulf Coast and ports in Argentina, Brazil, Colombia, the Dominican Republic, Mexico, and Uruguay. The parties requested expedited review.

Agreement No.: 201218.

Title: Bi-State Marine Terminal Discussion Agreement.

Parties: South Carolina State Ports Authority and Georgia Ports Authority.

Filing Party: Warren L. Dean, Jr., Esq., Thompson Coburn LLP, 1909 K Street, NW., Washington, DC 20006-1167.

Synopsis: The agreement would authorize the parties to discuss, among other things, terminal rates, charges, rules, conditions of service, terminal congestion, and methods for relieving terminal congestion. The parties requested expedited review.

Dated: August 10, 2012.
By Order of the Federal Maritime Commission.
Karen V. Gregory,
Secretary.

[FR Doc. 2012-20084 Filed 8-14-12; 8:45 am]

BILLING CODE 6730-01-P